DEPARTMENT OF LABOR

Employment and Training Administration

[TA-W-38,338]

Cooper Energy Services, Mount Vernon, OH; Notice of Negative Determination Regarding Application for Reconsideration

On April 10, 2001, the Department received a request from petitioner, for administrative reconsideration of the Department's negative determination regarding eligibility to apply for Trade Adjustment Assistance (TAA), applicable to workers and former workers of the subject firm. The denial notice was signed on March 16, 2001, and published in the Federal Register on April 16, 2001 (66 FR 19520).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The Department initially denied TAA to workers engaged in the production of compressors, used in the oil industry, at Cooper Energy Services, Mount Vernon, Ohio, because the criterion (3) of the worker group eligibility requirements of Section 222 of the Trade Act of 1974, as amended, was not met. The subject firm, nor its customers, imported compressors.

The petitioner states that even though compressors are not being imported, the components that were machined in the Mount Vernon, Ohio, facility are now being machined in other countries and shipped back to Waller, Texas, for final assembly.

The petition was filed on behalf of the workers at the subject firm producing compressors, not machined components. Imports of materials to produce the finished articles is not relevant to this petition that was filed on behalf of workers producing compressors.

Conclusion

After review of the application and investigative findings, I conclude that there has been no error or misinterpretation of the law or of the facts which would justify reconsideration of the Department of Labor's prior decision. Accordingly, the application is denied.

Signed at Washington, DC this 14th day of September 2001.
Edward A. Tomchick,
Director, Office of Trade Adjustment Assistance.

[FR Doc. 01-24824 Filed 10-3-01; 8:45 am]

BILLING CODE 4510-30-M